DEPARTMENT OF JUSTICE

National Institute of Corrections

Solicitation for a Cooperative Agreement: Strategic Planning Coordinator, Kansas Evidence Based Practices Implementation Effort

AGENCY: National Institute of Corrections, DOJ.

ACTION: Solicitation for Cooperative Agreement Applications.

SUMMARY: The National Institute of Corrections (NIC) solicits proposals from organizations or individuals for a 12-month cooperative agreement to provide coaching on executive leadership and complex project management to achieve the implementation of evidence based practices (EBP) on offender risk reduction in the Kansas Department of Corrections (KDOC) Community Corrections Act oversight unit and a limited number of local community corrections agencies. The project is jointly supported by NIC and the JEHT Foundation.

This Request for Proposals seeks a successful applicant to facilitate the strategic change process at both the KDOC oversight and selected local community corrections agencies levels. The coaching will include evidence based policy and practice related to decision making by criminal justice officials and stakeholders; organizational development knowledge and strategies; and assessment, case management and behavioral interventions for the State's adult felony probation population. The selected applicant will need to be available for on site facilitation and off site coaching beginning early April, 2008, and continuing for twelve months thereafter. An initial site visit including NIC and JEHT representation will be scheduled upon award of the cooperative agreement.

DATES: Applications must be received by 4 p.m. EST on Friday, February 22, 2008. Selection of the successful applicant; and notification of review results to all applicants: March 31, 2008.

ADDRESSES: Mailed applications must be sent to: Director, National Institute of Corrections, 320 First Street, NW., Room 5007, Washington, DC 20534. Applicants are encouraged to use Federal Express, UPS, or similar service to ensure delivery by the due date. Hand delivered applications should be brought to 500 First Street, NW., Washington, DC 20534. At the front desk, call (202) 307-3106, extension 0 for pickup.

Faxed applications will not be accepted. The only electronic applications (preferred) that will be accepted must be submitted through http://www.grants.gov.

FOR FURTHER INFORMATION CONTACT: A copy of this announcement and the required application forms can be downloaded from the NIC Web site at http://www.nicic.org. Hard copies of the announcement can be obtained by calling Pam Davison at 1-800-995-6423 x 3-0484 or E-mail pdavison@bop.gov. mailto:jevens@bop.gov.

Questions regarding the solicitation should be directed to Mr. Keiser at gkeiser@bop.gov. Questions regarding the Kansas Community Corrections Act authorization, the history and current status of EBP implementation in community corrections act agencies or other relevant Kansas legislative requirements should be directed to Kathleen Graves, Director, Community Corrections, KDOC, at Kathleeng@kdoc.dc.state.ks.us.

SUPPLEMENTARY INFORMATION: Background: The KDOC has initiated a broad effort to implement evidence based policies and practices regarding offender risk reduction throughout the State's corrections system. The KDOC Parole and Institutions staff already are making good progress in implementing evidence based principles in their functional units. The focus of this effort will be the implementation of EBP in the State's community corrections system of locally governed community corrections agencies and the KDOC oversight unit, authority for each established by Community Corrections Act legislation in the early 1980s. In a related effort, Evidence Based Policy and Practice Awareness Development Training Sessions were provided to Community Corrections Act Executive Directors and some key stakeholders at the end of calendar year 2007. The Awareness Development Sessions will be expanded and offered to all Kansas community corrections staff during the first quarter of calendar year 2008. These sessions are funded by the JEHT Foundation and conducted by the Center for Effective Public Policy. The work of the successful applicant must be cognizant of and consistent with this awareness development training.

Goals of the Strategic Planning and Coaching Cooperative Agreement: The first goal is to build the capacity of the KDOC to provide effective oversight and technical guidance to the local based community corrections agencies in order to expand the implementation of EBP in local jurisdictions. The areas of capacity building may include, but are not limited to, total operational management, substantive expertise and coaching (on the content and organizational development principles of EBP), program and financial audits and quality assurance.

The second goal is to facilitate the development/improvement of the operational infrastructure in a limited number of local community corrections agencies so that these agencies may more effectively implement and sustain EBP risk reduction strategies. The term, operational infrastructure, refers to the business practices required to align and manage operational procedures and resources; and the tracking of critical outputs and outcomes with the substantive EBP approaches. These agencies will be learning laboratories for further statewide implementation. The local community corrections agencies will be selected by the KDOC based on clear selection criteria and in close consultation with applicant local agencies. The successful applicant is expected to assist KDOC with the development of selection criteria, analysis of applications and sustained implementation in the local agencies.

Proposal Preparation: Persons interested in providing these facilitation and coaching services should prepare a proposal that outlines a strategic planning approach, including the straightforward delineation of measurable goals and objectives, intermediate benchmarks, assigned action steps, and feedback loops. The plan should be developed for two levels: (1) KDOC oversight; and (2) selected local community corrections agencies and jurisdictions. It should contain sub-sections addressing the need for management information and other data collection systems, multi-level communication, quality assurance, and program evaluation. It should include an approach to project coordination among the KDOC, local community corrections agencies and funders/sponsors.

The successful applicant must demonstrate a logic model for building initially and sustaining over time and the competencies and capacity required by both the state oversight and the local program delivery functions. The applicant should identify the likely measurable outputs that would indicate successful progress toward the changes in EBP implementation infrastructure and process at both State and local governance levels.

Required Expertise: It is highly desirable for the successful applicant to demonstrate experience in managing a statewide or large jurisdiction change effort centered on evidence based practice for offender risk reduction, as well as in coaching executives on successful change leadership. It also will be helpful if the successful applicant's experience includes the phased implementation of other criminal justice system change efforts, training of judges and other stakeholders, and the development of risk assessment and case management procedures. Basic practical knowledge of probation and risk reduction research are critical.

Application Requirements: The application should be concisely written, typed double spaced and reference the “NIC Application Number” and Title provided in this announcement. The application package must include: OMB Standard Form 424, Application for Federal Assistance, a cover letter that identifies the audit agency responsible for the applicant's financial accounts as well as the audit period or fiscal year that the applicant operates under (e.g., July 1 through June 30), a program narrative responding to the requirements in this announcement, a description of the qualifications of the applicant(s), an outline of projected costs, and the following forms: OMB Standard Form 424A, Budget Information-Non Construction Programs, OMB Standard Form 424B, Assurances-Non Construction Programs, DOJ/NIC Certification Regarding Lobbying; Debarment, Suspension and Other Responsibility Matters; and Drug-Free Workplace Requirements. These forms are available from http://www.nicic.org, under the “About Us” bar, “Cooperative Agreements.”

Submit an original and three copies of your full proposal (program and budget narrative, application forms and assurances) and limit the program narrative text to 10 double spaced pages, exclusive of resumes and summaries of experience. Please do not submit full curriculum vitae. The original should have the applicant's signature in blue ink.

A telephonic conference will be conducted for persons receiving this solicitation and having a serious intent to respond on Tuesday, February 5, 2008, at 3 p.m. EST. In the conference, representatives of KDOC, NIC, and the JEHT Foundation will respond to questions regarding the solicitation, the expectations of work to be performed, and the current status of EBP work and development efforts in the State. Please notify Mr. Keiser electronically by close of business on February 1, 2008, regarding your interest in participating in the conference, and you will be provided the call-in number and instructions.

Additional Resources: Twelve reference documents for additional information can be found on NIC's Web site. Go to http://nicic.org. click on “Community,” then scroll to “Shared Files,” and finally click on “Tools for Evidence Based Implementation.”

Authority: Pub. L. 93-415.

Funds Available: NIC is seeking the applicant's best ideas regarding delivery approaches and their related costs for achieving the goals of the solicitation through on-site and off-site assistance. The final budget and award amount will be negotiated between the funders and the successful applicant. Funds may only be used for the activities that are linked to the desired outcome of the project. No funds are transferred to state or local governments.

Eligibility of Applicants: An eligible applicant is any public or private agency, educational institution, organization, individual or team with expertise in the described areas.

Review Considerations: Applications received under this announcement will be subjected to a 3 to 5 person NIC and joint funding agency Review Process.

Number of Awards: One.

NIC Application Number: 08C75. This number should appear as a reference line in the cover letter, in box 4a of Standard Form 424, and outside of the envelope in which the application is sent.

Catalog of Federal Domestic Assistance Number: 16,603.

E.O. 12372: This program is subject to the provisions of Executive Order 12372.

E.O. 12372 allows states the option of setting up a system for reviewing applications from within their states for assistance under certain Federal programs. Applicants (other than Federally-recognized Indian tribal governments) should contact their State Single Point of Contact (SPOC), a list of which can be found at http://www.whitehouse.gov/omb/grants/spoc.html.

Dated: January 23, 2008.
Morris Thigpen,
Director.

[FR Doc. 08-391 Filed 1-30-08; 8:45 am]

BILLING CODE 4410-36-M